DEPARTMENT OF COMMERCE

National Oceanic and Atmospheric Administration

[RTID 0648-XF007]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the Coonamessett Farm Foundation (CFF). Regulations under the Magnuson-Stevens Fishery Conservation and Management Act require publication of this notification to provide interested parties the opportunity to comment on applications for proposed EFPs.

DATES: Comments must be received on or before July 15, 2025.

ADDRESSES: You may submit written comments by email: nmfs.gar.efp@noaa.gov. Include in the subject line “CFF Oceanic Squid Fishery EFP.” All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Christine Ford, Fishery Management Specialist, christine.ford@noaa.gov, 978-281-9185.

SUPPLEMENTARY INFORMATION: The applicant submitted a complete application for an EFP to conduct commercial fishing activities that the regulations would otherwise restrict. This EFP would exempt the participating vessels from the following Federal regulations:

Table 1—Requested Exemptions
CFR citation | Regulation | Need for exemption
50 CFR 648.351(a) | Restriction against fishing for, possessing, or landing more than 1,700 lb (771.11 kg) of all Mid-Atlantic forage species combined per trip | To allow for the landing of Mid-Atlantic forage species in excess of the possession limit.

Table 2—Project Summary
Project title | Developing an Oceanic Squid Fishery in the Northwest Atlantic.
Project start | 08/01/2025.
Project end | 12/31/2025.
Project objectives | To assess the viability of developing an offshore squid fishery.
Project location | Waters off the continental shelf. Statistical Areas: 525, 526, 533, 534, 537, and 541 (also possibly 542, 543, 552, 562, 616, 623, and 624).
Number of vessels | 3 (2 primary, and 1 back-up).
Number of trips | 2.
Trip duration (days) | 7.
Total number of days | 14.
Gear type(s) | Auto-jigging machines.
Number of tows or sets | 60.
Duration of tows or sets | 6-12 hours.

Project Narrative

The purpose of this project is to conduct exploratory fishing in waters off the continental shelf to assess resource availability, and promote sustainable fishing opportunities for oceanic squid species. The applicant states that the neon flying squid, valuable in Asian and European markets, was successfully targeted during an exploratory fishing trip off the Eastern Coast of the United States in the late 1990s, and has promise to support a directed fishery.

Under this EFP, participating fishermen would trial automatic jigging machines, paired with high-intensity lighting and a deep-sea anchoring system, to catch unmanaged squid species, and to gauge commercial potential of further equipping fishing vessels to target these species and develop new markets. Two 7-day exploratory fishing trips would occur. Fishing would occur day and night for 5 days during each trip. Vessels would be outfitted with four-six double drummed automatic jigging machines. Each jigging line would be rigged with 10 barbless hooks designed to catch neon flying squid, fished at depths up to 200 meters (m), in waters of total depths between 250-1,500 m. In addition to the jigging machines, fishing operations would include an array of 12 metal halide and 20 high-intensity light-emitting diode deck lights on the surface, and one underwater metal halide light lowered by a dedicated winch. The vessel would use a deep-sea parachute sea anchor to reduce drift and stabilize the vessel.

CFF research staff would be aboard vessels to oversee fishing and conduct sampling activities. Squid would be identified to the lowest taxonomic level possible, and representative samples would be retained to verify identification. Squid lengths and weights would be recorded for each taxa caught, and the time and location would be recorded to monitor effort. Catch information on all species incidentally caught would be recorded. Unmanaged squid species caught would be retained for sale. Illex and longfin squid would be landed within vessel possession limits, although the jig size would be too large for most Illex squid, and the depths and distance from shore fished would make catching longfin squid unlikely. The applicant anticipates catching up to 10,000 lb (4,536 kg) of squid per trip.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

(Authority: 16 U.S.C. 1801 et seq.)

Dated: June 26, 2025.
Kelly Denit,
Director, Office of Sustainable Fisheries, National Marine Fisheries Service.

[FR Doc. 2025-12053 Filed 6-27-25; 8:45 am]

BILLING CODE 3510-22-P